DEPARTMENT OF TRANSPORTATION

Federal Aviation Administration

14 CFR Part 39

[Docket No. FAA-2012-0676; Directorate Identifier 2011-NM-182-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A318, A319, A320, and A321 series airplanes. This proposed AD was prompted by reports of the escape slide of the raft inflation system not deploying when activated due to the rotation of the cable guide in a direction which resulted in jamming of the inflation control cable. This proposed AD would require modifying the affected slide rafts. We are proposing this AD to prevent non-deployment of the inflation system of the escape slide raft, which could result in delayed evacuation from the airplane during an emergency, and consequent injury to the passengers.

DATES: We must receive comments on this proposed AD by August 16, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this proposed AD, contact Airbus, Airworthiness Office—EAS, 1 Rond Point Maurice Bellonte, 31707 Blagnac Cedex, France; telephone +33 5 61 93 36 96; fax +33 5 61 93 44 51; email account.airworth-eas@airbus.com; Internet http://www.airbus.com. For Air Cruisers service information identified in this proposed AD, contact Zodiac Services Americas, Cage Code 567V9, 4900, St. Joe Boulevard, Building 200, Suite 400, College Park, Georgia 30337; telephone 678-228-8153; fax 404-599-0041; email techpubs@zodiac.com; Internet http://www.zodiacaerospace.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Comments Invited

We invite you to send any written relevant data, views, or arguments about this proposed AD. Send your comments to an address listed under the ADDRESSES section. Include “Docket No. FAA-2012-0676; Directorate Identifier 2011-NM-182-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0160, dated August 26, 2011 (referred to after this as “the MCAI”), to correct an unsafe condition for the specified products. The MCAI states:

Two occurrences on Airbus A320 aeroplanes have been reported where the escape slide raft inflation system did not deploy when activated, due to the rotation of the cable guide in a direction which resulted in jamming of the inflation control cable. Additionally, there has been one reported case where the system did not deploy properly due to a cracked inflation hose fitting.

Investigation conducted by the slide raft manufacturer showed that the hose fitting could be subject to a bending moment if improperly packed. Subsequently, the hose fitting could separate from the reservoir and the inflation of the slide raft may be impaired.

This condition, if not corrected, could delay the evacuation from the aeroplane in case of emergency, possibly resulting in injury to the occupants.

For the reasons described above, this [EASA] AD requires modification of the affected slide rafts or [optional] replacement thereof with modified units.

The modification includes installing a cable guide adaptor, an anti-rotation bracket, and a new hose assembly. You may obtain further information by examining the MCAI in the AD.

Relevant Service Information

Airbus has issued Service Bulletin A320-25-1723, dated December 17, 2010 (for Model A319, A320, and A321 series airplanes); and Service Bulletin A320-25-1724, dated December 17, 2010 (for Model A318 series airplanes). Air Cruisers Company has issued Service Bulletin A320 004-25-85, dated November 30, 2010 (for Model A318, A319, A320, and A321 series airplanes). The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 745 products of U.S. registry. We also estimate that it would take about 19 work-hours per product to comply with the basic requirements of this proposed AD. The average labor rate is $85 per work-hour. Required parts would cost about $341 per product. Where the service information lists required parts costs that are covered under warranty, we have assumed that there will be no charge for these parts. As we do not control warranty coverage for affected parties, some parties may incur costs higher than estimated here. Based on these figures, we estimate the cost of the proposed AD on U.S. operators to be $1,457,220, or $1,956 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0676; Directorate Identifier 2011-NM-182-AD.

(a) Comments Due Date

We must receive comments by August 16, 2012.

(b) Affected ADs

None.

(c) Applicability

This AD applies to all Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category; all manufacturer serial numbers.

(d) Subject

Air Transport Association (ATA) of America Code 25: Equipment/Furnishings.

(e) Reason

This AD was prompted by reports of the escape slide of the raft inflation system not deploying when activated due to the rotation of the cable guide in a direction which resulted in jamming of the inflation control table. We are issuing this AD to prevent non-deployment of the inflation system of the escape slide raft, which could result in delayed evacuation from the airplane during an emergency, and consequent injury to the passengers.

(f) Compliance

You are responsible for having the actions required by this AD performed within the compliance times specified, unless the actions have already been done.

(g) Modification

Except as provided by paragraph (i) of this AD, within 36 months after the effective date of this AD: Modify the escape slide rafts that have a part number specified in table 1 of this AD, in accordance with the Accomplishment Instructions of Airbus Service Bulletin A320-25-1723, dated December 17, 2010 (for Model A319, A320, and A321 series airplanes); or Airbus Service Bulletin A320-25-1724, dated December 17, 2010 (for Model A318 series airplanes).

Table 1—Escape Slide Rafts
Air Cruisers and Aerazur Escape Slide Rafts Part Number if Fitted With a Reservoir and Valve Assembly P/N D18309-105 or P/N D18309-205
D30664-105
D30664-107
D30664-109
D30664-305
D30664-307
D30664-309
D30664-311
D30665-105
D30665-107
D30665-109
D30665-305
D30665-307
D30665-309
D30665-311

(h) Replacement in Accordance With Air Cruisers Service Bulletin

Replacement of all affected escape slide rafts on any affected airplane with slide rafts that have been modified in accordance with the Accomplishment Instructions of Air Cruisers Service Bulletin S.B. A320 004-25-85, dated November 30, 2010, is acceptable for compliance with the requirements of paragraph (g) of this AD.

(i) Airplanes Not Affected by Paragraph (g) This AD

Airplanes on which Airbus modification 151459 or modification 151502 has been embodied in production, and on which no escape slide raft replacements have been made since first flight, are not affected by the requirement specified in paragraph (g) of this AD.

(j) Parts Installation

(1) For airplanes other than those identified in paragraph (i) of this AD: After accomplishment of the modification required by paragraph (g) of this AD or after accomplishment the replacement specified in paragraph (h) of this AD, no person may install, on any airplane, an escape slide raft specified in table 1 of this AD, unless it has been modified in accordance with the Accomplishment Instructions of Airbus Service Bulletin A320-25-1723, dated December 17, 2010 (for Model A319, A320, and A321 series airplanes); Airbus Service Bulletin A320-25-1724, dated December 17, 2010 (for Model A318 series airplanes); or Air Cruisers Service Bulletin A320 004-25-85, dated November 30, 2010 (for Model A318, A319, A320, and A321 series airplanes).

(2) For airplanes identified in paragraph (i) of this AD: As the effective date of this AD, no person may install, on any airplane, an escape slide raft specified in table 1 of this AD, unless it has been modified in accordance with the Accomplishment Instructions of Airbus Service Bulletin A320-25-1723, dated December 17, 2010 (for Model A319, A320, and A321 series airplanes); Airbus Service Bulletin A320-25-1724, dated December 17, 2010 (for Model A318 series airplanes); or Air Cruisers Service Bulletin A320 004-25-85, dated November 30, 2010 (for Model A318, A319, A320, and A321 series airplanes).

(k) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

Refer to MCAI EASA Airworthiness Directive 2011-0160, dated August 26, 2011; and the service information specified in paragraphs (1)(1) through (1)(3) of this AD; for related information.

(1) Airbus Service Bulletin A320-25-1723, dated December 17, 2010.

(2) Airbus Service Bulletin A320-25-1724, dated December 17, 2010.

(3) Air Cruisers Service Bulletin A320 004-25-85, dated November 30, 2010.

Issued in Renton, Washington, on June 26, 2012.
Kalene C. Yanamura,
Acting Manager, Transport Airplane Directorate, Aircraft Certification Service.

[FR Doc. 2012-16096 Filed 6-29-12; 8:45 am]

BILLING CODE 4910-13-P